Proclamation 10878 of December 31, 2024

National Mentoring Month, 2025

By the President of the United States of America

A Proclamation

Leading by the power of their example, mentors represent the very best of America's spirit of community and care for one another. During National Mentoring Month, we honor all the Americans who give their time and their hearts to mentor our Nation's young people.

My Administration has been committed to giving youths the resources they need to thrive, including by ensuring students feel supported and have opportunities to connect to meaningful mentors. My American Rescue Plan secured a record $130 billion for K-12 schools, putting more teachers, counselors, social workers, and staff in our schools, who are so often our young people's first mentors. And that law gave AmeriCorps funding to support new mentors and volunteers who can serve our communities. Moreover, my Administration created the National Partnership for Student Success, which recruited more than 300,000 tutors and mentors to help young people reach their full potential, as well as student success coaches and postsecondary transition coaches. We also called on colleges and universities to use at least 15 percent of their Federal work study funds to assist their students in serving as mentors and other critical volunteer roles that support our Nation's children and youth.

At the same time, my Administration recognizes the value of mentorship in the workplace, and Registered Apprenticeships not only help provide it, they also produce some of the best workers in the world. That is why I am proud to have worked with labor unions and made historic investments in pre-apprenticeship and Registered Apprenticeship programs that provide the training and skills necessary to get a good job and launch a fulfilling career. My Administration also launched the American Climate Corps to put over 20,000 Americans to work in fast-growing green sectors like clean energy and conservation.

I have often said that we are a great Nation because we are a good people. During National Mentoring Month, we honor all the good people across our Nation, who are helping young people find direction, grow, and tap into our Nation's unlimited possibilities. As so many mentors know, being a mentor can be a transformative and enriching life experience. I encourage every American—whether you are a college student, community leader, or person hoping to make a difference—to explore opportunities to mentor or tutor by visiting americorps.gov/serve and partnershipstudentsuccess.org.

NOW, THEREFORE, I, JOSEPH R. BIDEN JR., President of the United States of America, by virtue of the authority vested in me by the Constitution and the laws of the United States, do hereby proclaim January 2025 as National Mentoring Month. I call upon Americans across the country to observe this month with mentoring, appropriate ceremonies, activities, and programs.

IN WITNESS WHEREOF, I have hereunto set my hand this thirty-first day of December, in the year of our Lord two thousand twenty-four, and of the Independence of the United States of America the two hundred and forty-ninth.

[FR Doc. 2025-00227

Filed 1-6-25; 8:45 am]

Billing code 3395-F4-P